DEPARTMENT OF THE INTERIOR

Bureau of Ocean Energy Management

[Docket No. BOEM-2013-0050; MMAA104000]

Potential Commercial Leasing for Wind Power on the Outer Continental Shelf (OCS) Offshore Oregon, Request for Interest

AGENCY: Bureau of Ocean Energy Management (BOEM), Interior.

ACTION: Public Notice of an Unsolicited Request for a Commercial OCS Wind Lease, Request for Interest (RFI), and Request for Public Comment.

SUMMARY: The purpose of this public notice is to: (1) Describe the proposal submitted to BOEM by Principle Power, Inc. (Principle Power) to acquire an OCS commercial wind lease; (2) solicit submissions of indications of interest in obtaining a commercial lease for wind energy development on the OCS offshore Oregon in the area described in this notice; and (3) solicit initial public input regarding the area described in this notice, the potential environmental consequences of wind energy development in the area, and the multiple uses of the area.

On May 15, 2013, BOEM received an unsolicited request from Principle Power for a commercial wind lease on the OCS offshore Oregon. Principle Power's proposed project, the “WindFloat Pacific Project,” would consist of a floating wind energy demonstration facility offshore Coos Bay, Oregon. The project is designed to generate 30 megawatts (MW) of electricity from five floating “WindFloat” units, each equipped with a 6-MW offshore wind turbine, connected by inter-unit electrical cabling, with a single transmission cable exporting electricity to the mainland that would extend across both Federal and state lands. The project would be located approximately 16 nautical miles (nmi) west of Coos Bay, Oregon in water depths of approximately 1,400 feet. Additional information on Principle Power's unsolicited lease request can be viewed at http://www.boem.gov/State-Activities-Oregon/.

This RFI is published pursuant to subsection 8(p)(3) of the OCS Lands Act, as amended by section 388 of the Energy Policy Act of 2005 (EPAct) (43 U.S.C. 1337(p)(3)), and the implementing regulations at 30 CFR 585.231(b). Subsection 8(p)(3) of the OCS Lands Act requires that OCS renewable energy leases, easements, and rights-of-way be issued “on a competitive basis unless the Secretary of the Interior (Secretary) determines after public notice of a proposed lease, easement, or right-of-way that there is no competitive interest.” This RFI provides such public notice for the proposed lease area requested by Principle Power and invites the submission of indications of interest. BOEM is soliciting submissions of interest in commercial wind energy development with this notice. BOEM will consider the responses to this public notice to determine whether competitive interest exists for the area requested by Principle Power, as required by 43 U.S.C. 1337(p)(3). Parties wishing to obtain a commercial lease for wind energy development for the area described below under “Description of the Proposed Lease Area” should submit detailed and specific information as described in the section entitled, “Required Indication of Interest Information.”

This announcement also requests that interested and affected parties comment and provide information about site conditions and multiple uses within the area identified in this notice that would be relevant to the proposed project or its impacts. This is the first step in the OCS renewable energy leasing process. There will be additional opportunities to provide comment pursuant to 30 CFR part 585 and applicable laws, such as the opportunity to comment on the environmental analysis that BOEM will prepare under the National Environmental Policy Act (NEPA), before any lease is issued. A detailed description of the proposed lease area can be found in the section of this notice entitled, “Description of the Area.”

DATES: If you are submitting an indication of interest in acquiring a lease for the proposed lease area, your submission must be sent by mail, postmarked no later than October 30, 2013 for your submission to be considered. If you are providing comments or other submissions of information, you may send them by mail, postmarked by this same date, or you may submit them through the Federal eRulemaking Portal at http://www.regulations.gov, also by this same date.

Submission Procedures: If you are submitting an indication of interest in a lease, please submit it by mail to the following address: Bureau of Ocean Energy Management, Pacific Region Office of Strategic Resources, 770 Paseo Camarillo, Second Floor, Camarillo, California 93010. Submissions must be postmarked by October 30, 2013 to be considered by BOEM for the purposes of determining competitive interest. In addition to a paper copy of your submission, include an electronic copy; BOEM considers an Adobe PDF file stored on a compact disk (CD) to be an acceptable format for submitting an electronic copy. BOEM will list the parties that submit indications of interest on the BOEM Web site after the 30-day comment period has closed.

If you are submitting comments or other information concerning the proposed lease area, you may use either of the following two methods:

1. Federal eRulemaking Portal: http://www.regulations.gov. In the entry entitled, “Enter Keyword or ID,” enter BOEM-2013-0050 and then click “search.” Follow the instructions to submit public comments and view supporting and related materials available for this notice.

2. Alternatively, comments may be submitted by mail to the following address: Bureau of Ocean Energy Management, Pacific Region Office of Strategic Resources, 770 Paseo Camarillo, Second Floor, Camarillo, California 93010.

If you wish to protect the confidentiality of your submissions or comments, clearly mark the relevant sections and request that BOEM treat them as confidential. Please label privileged or confidential information “Contains Confidential Information” and consider submitting such information as a separate attachment. Treatment of confidential information is addressed in the section of this notice entitled, “Privileged or Confidential Information.” BOEM will post all comments on www.regulations.gov, unless labeled as confidential. Information that is not labeled as privileged or confidential will be regarded by BOEM as suitable for public release.

FOR FURTHER INFORMATION CONTACT: Ms. Jean Thurston, Renewable Energy Program Specialist, BOEM, Pacific Region Office of Strategic Resources, 770 Paseo Camarillo, Second Floor, Camarillo, California 93010, Phone: (805) 384-4704.

SUPPLEMENTARY INFORMATION:

Purpose of this RFI

Responses to this public notice will allow BOEM to determine, pursuant to 30 CFR 585.231, whether or not there is competitive interest in acquiring an OCS commercial wind lease in the proposed lease area. In addition, this notice provides an opportunity for interested stakeholders to comment on the proposed lease area, the proposed project, and any potential impacts wind energy development may have in the area. BOEM may use comments received to further identify and refine the area requested and inform future environmental analyses related to the project. This is the first opportunity for public input; additional opportunities will be provided pursuant to 30 CFR part 585 and applicable laws and BOEM practices.

If, in response to this notice, BOEM receives one or more indications of interest in offshore wind energy development from qualified entities that wish to compete for the proposed lease area, BOEM may decide to move forward with the lease issuance process using competitive procedures pursuant to 30 CFR Part 585. If BOEM receives no competing indications of interest from qualified companies, BOEM may decide to move forward with the lease issuance process using the non-competitive procedures contained in 30 CFR part 585.

Background

National Offshore Wind Strategy

In 2011, the U.S. Department of Energy (DOE) and Department of the Interior Office of Energy Efficiency and Renewable Energy released the National Offshore Wind Strategy, which identified challenges facing development of offshore wind energy and outlined actions to support the goals of developing an offshore wind industry in the United States. DOE's Wind and Water Power Program released a formal Offshore Wind Innovation and Demonstration Initiative, consistent with the National Offshore Wind Strategy goals, to promote and accelerate responsible commercial offshore wind development in the United States. To address the objectives of the Strategy, funding was planned for Advanced Technology Demonstration Projects that verify innovative designs and technology developments and validate full performance and cost under real operating and market conditions. On December 12, 2012, the DOE announced award funding for seven proposed offshore wind demonstration projects under the “Financial Assistance Funding Opportunity Announcement (DOE-FOA-0000410) U.S. Offshore Wind: Advanced Technology Demonstration Projects.” The awards went to projects that demonstrated the ability to progress toward achieving the national goals of the National Offshore Wind Strategy. Principle Power submitted an application in response to the DOE-FOA-0000410 and was selected as one of the seven award recipients. From the seven original projects selected for an award, DOE will choose three projects for continued funding in the spring of 2014. Principle Power has submitted a lease request to BOEM in an effort to move forward in the DOE funding process.

Determination of Competitive Interest and Leasing Process

After the publication of this announcement, BOEM will evaluate indications of interest in acquiring a commercial lease in the proposed lease area. At the conclusion of the comment period for this public notice, BOEM will review the submissions received and undertake a completeness review for each of those submissions and a qualifications review for each of the nominating entities. BOEM will then make a determination as to whether competitive interest exists.

If BOEM determines that there is no competitive interest in the proposed lease area, it will publish a notice stating that there is no competitive interest in the Federal Register. At that point, BOEM may decide to proceed with the noncompetitive lease issuance process pursuant to 30 CFR 585.231, and Principle Power would need to submit any required plan(s). If BOEM determines that there is competitive interest, it may move forward with the leasing process outlined in 30 CFR 585.211.

Whether following competitive or non-competitive procedures, BOEM would consult with the BOEM Oregon Intergovernmental Renewable Energy Task Force and comply with all applicable requirements before making a decision on whether or not to issue a lease and approve, disapprove, or approve with modifications any associated plan(s). BOEM would coordinate and consult, as appropriate, with relevant Federal agencies, affected tribes, affected state agencies and affected local governments during the lease development and issuance process.

Description of the Proposed Lease Area

The proposed lease area is located off the coast of Oregon, approximately 16 nmi west of, Coos Bay, Oregon. From its most northeastern point the area extends approximately 5.18 nmi south and 2.59 nmi west. The project area consists of four partial OCS blocks. The entire area is approximately 15.01159 square miles (9,607.419 acres or 3,888 hectares).

Table 1—List of OCS Blocks Included in the Request for Interest
Protraction name | Protraction number | Block number | Sub block
Coos Bay | NK 10-01 | 6573 | L,P
Coos Bay | NK 10-01 | 6574 | A,B,C,E,F,G,I,J,K,M,N,O
Coos Bay | NK 10-01 | 6623 | D,H,L,P
Coos Bay | NK 10-01 | 6624 | A,B,C,E,F,I,J,M,N

The boundary of the proposed lease area follows the points listed in Table 2 in clockwise order. Point numbers 1 and 25 are the same. Coordinates are provided in X, Y (eastings, northings) UTM Zone 18N, NAD 83 and geographic (latitude, longitude) NAD83.

Table 2—List of Boundary Points Included in the Request for Interest
Point number | X (Easting) | Y (Northing) | Latitude | Longitude
1 | 360800 | 4804800 | 43.383163617505 | −124.71850250843
2 | 359600 | 4804800 | 43.3829400824461 | −124.733310553746
3 | 359600 | 4806000 | 43.3937405007104 | −124.733618431238
4 | 359600 | 4807200 | 43.4045408967447 | −124.733926479511
5 | 359600 | 4808400 | 43.4153412705474 | −124.734234698679
6 | 359600 | 4809600 | 43.4261416221169 | −124.734543088854
7 | 359600 | 4810800 | 43.4369419514513 | −124.73485165015
8 | 359600 | 4812000 | 43.4477422585492 | −124.735160382679
9 | 360800 | 4812000 | 43.4479662972019 | −124.720336552948
10 | 360800 | 4813200 | 43.4587666660974 | −124.720642820982
11 | 360800 | 4814400 | 43.4695670127825 | −124.720949259014
12 | 362000 | 4814400 | 43.4697892973427 | −124.706119986029
13 | 363200 | 4814400 | 43.4700096596489 | −124.691290544395
14 | 364400 | 4814400 | 43.4702280996417 | −124.676460935576
15 | 364400 | 4813200 | 43.4594275050812 | −124.676162410122
16 | 364400 | 4813200 | 43.4486268883978 | −124.675864050282
17 | 364400 | 4810800 | 43.437826249593 | −124.675565855946
18 | 364400 | 4809600 | 43.4270255886685 | −124.675267827005
19 | 364400 | 4808400 | 43.4162249056256 | −124.67496996335
20 | 363200 | 4808400 | 43.4160068748692 | −124.689786398592
21 | 363200 | 4807200 | 43.4052062514705 | −124.689486069775
22 | 363200 | 4806000 | 43.394405605928 | −124.689185907484
23 | 363200 | 4804800 | 43.3836049382433 | −124.688885911607
24 | 362000 | 4804800 | 43.3833852361241 | −124.703694293898
25 | 360800 | 4804800 | 43.383163617505 | −124.71850250843

Map of the Area

A map of the area proposed by Principle Power and included in this RFI can be found at the following URL: http://www.boem.gov/State-Activities-Oregon/. A large scale map of the proposed lease area showing boundaries of the area with the numbered blocks is available from BOEM at the following address: Bureau of Ocean Energy Management, Pacific Region Office of Strategic Resources, 770 Paseo Camarillo, Second Floor, Camarillo, California 93010.

Department of Defense Activities and Stipulations

The Department of Defense (DOD) conducts offshore testing, training, and operations on the OCS and may request that BOEM condition any activities that might take place in the proposed lease area. BOEM will consult with DOD regarding potential issues concerning offshore testing, training, and operational activities, and will develop appropriate stipulations to mitigate the effects of renewable energy activities on any DOD activities in the proposed lease area.

Required Indication of Interest Information

If you intend to submit an indication of interest in a lease for the area identified in this notice, you must provide the following:

(1) A statement that you wish to acquire a commercial wind lease within the proposed lease area. For BOEM to consider your indication of interest, it must include a proposal for a wind power project within the proposed lease area. Any request for a commercial wind lease located outside of the proposed lease area should be submitted separately pursuant to 30 CFR 585.230;

(2) A general description of your objectives and the facilities that you would use to achieve those objectives;

(3) A general schedule of proposed activities, including those leading to commercial operations;

(4) Available and pertinent data and information concerning renewable energy resources and environmental conditions in the area that you wish to lease, including energy and resource data and information used to evaluate the area of interest. Where applicable, spatial information should be submitted in a format compatible with ArcGIS 9.3 in a geographic coordinate system (NAD 83);

(5) Documentation demonstrating that you are legally qualified to hold a lease as set forth in 30 CFR 585.106 and part 107. Examples of the documentation appropriate for demonstrating your legal qualifications and related guidance can be found in Chapter 2 and Appendix B of the Guidelines for the Renewable Energy Framework Guide Book available at: http://www.boem.gov/Renewable-Energy-Program/Regulatory-Information/Index.aspx. Legal qualification documents will be placed in an official file that may be made available for public review. If you wish that any part of your legal qualification documentation be kept confidential, clearly identify what should be kept confidential, and submit it under separate cover (see “Protection of Privileged or Confidential Information Section,” below); and

(6) Documentation demonstrating that you are technically and financially capable of constructing, operating, maintaining and decommissioning the facilities described in (2) above. Guidance regarding the documentation that could be used to demonstrate your technical and financial qualifications can be found at: http://www.boem.gov/Renewable-Energy-Program/Regulatory-Information/Index.aspx. If you wish that any part of your technical and financial qualification documentation be kept confidential, clearly identify what should be kept confidential, and submit it under separate cover (see “Protection of Privileged or Confidential Information Section,” below).

Your complete submission, including the items identified in (1) through (6) above, must be provided to BOEM in both paper and electronic formats. BOEM considers an Adobe PDF file stored on a CD to be an acceptable format for submitting an electronic copy.

It is critical that you provide a complete submission of interest so that BOEM may consider your submission in a timely manner. If BOEM reviews your submission and determines that it is incomplete, BOEM will inform you of this determination in writing and describe the information that BOEM needs from you in order for BOEM to deem your submission complete. You will be given 15 business days from the date of the letter to provide the information that BOEM found to be missing from your original submission. If you do not meet this deadline, or if BOEM determines your second submission is also insufficient, BOEM may deem your submission invalid. In such a case, BOEM would not consider your submission.

Requested Information From Interested or Affected Parties

BOEM is also requesting from the public and other interested or affected parties specific and detailed comments regarding the following:

(1) Geological and geophysical conditions (including seabed conditions and shallow hazards) in the area described in this notice;

(2) Historic properties and archaeological resources potentially affected by the construction and installation of meteorological buoys or commercial wind development in the area identified in this notice;

(3) Other uses of the area described in this notice, including but not limited to navigation (commercial and recreational vessel usage), commercial and recreational fishing, recreational activities (e.g., wildlife viewing, and scenic areas), aviation, other energy related development activities, scientific research, and utilities and communications infrastructure (e.g., undersea cables);

(4) Other relevant environmental information, including but not limited to: protected species and habitats, marine mammals, sea turtles, birds, fish, and cultural resources;

(5) Socioeconomic information, such as demographics and employment, or information relevant to environmental justice considerations.

Protection of Privileged or Confidential Information

Freedom of Information Act

BOEM will protect privileged or confidential information that you submit as required by the Freedom of Information Act (FOIA). Exemption 4 of FOIA applies to trade secrets and commercial or financial information that you submit that is privileged or confidential. If you wish to protect the confidentiality of such information, clearly mark it and request that BOEM treat it as confidential. BOEM will not disclose such information, subject to the requirements of FOIA. Please label privileged or confidential information, “Contains Confidential Information,” and consider submitting such information as a separate attachment.

However, BOEM will not treat as confidential any aggregate summaries of such information or comments not containing such information. Additionally, BOEM will not treat as confidential: (1) The legal title of the nominating entity (for example, the name of your company) or (2) the geographic location of nominated facilities. Information that is not labeled as privileged or confidential will be regarded by BOEM as suitable for public release.

Section 304 of the National Historic Preservation Act (16 U.S.C. 470w-3(a))

BOEM is required, after consultation with the Secretary of the Interior, to withhold the location, character, or ownership of historic resources if it determines that disclosure may, among other things, cause a significant invasion of privacy, risk harm to the historic resources, or impede the use of a traditional religious site by practitioners. Tribal entities and other interested parties should designate such information that they wish to be held as confidential.

Dated: September 19, 2013.
Tommy P. Beaudreau,
Director, Bureau of Ocean Energy Management.

[FR Doc. 2013-23699 Filed 9-27-13; 8:45 am]

BILLING CODE 4310-MR-P